DEPARTMENT OF ENERGY

Federal Energy Regulatory Commission

[Docket No. RP03-591-000]

CenterPoint Energy Gas Transmission Company; Notice of Proposed Changes in FERC Gas Tariff

September 4, 2003.

Take notice that on August 29, 2003, CenterPoint Energy Gas Transmission Company (CEGT) tendered for filing as part of its FERC Gas Tariff, Sixth Revised Volume No. 1, the following revised tariff sheets to be effective on October 1, 2003:

First Revised Sheet No. 456.

Original Sheet No. 456A.

CEGT states that the purpose of this filing is to add a new type of discount provision to Section 12.5(a) of the General Terms and Conditions that CEGT may include in a discount rate agreement without constituting a material deviation from CEGT's pro forma service agreement. CEGT states that this new provision would provide for discounts to be based on published index prices for specific receipt or delivery points or other agreed-upon published pricing reference points.

Any person desiring to be heard or to protest said filing should file a motion to intervene or a protest with the Federal Energy Regulatory Commission, 888 First Street, NE., Washington, DC 20426, in accordance with section 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing link.

Comment Date: September 10, 2003.

Magalie R. Salas,
Secretary.

[FR Doc. 03-23041 Filed 9-9-03; 8:45 am]

BILLING CODE 6717-01-P